DEPARTMENT OF THE TREASURY

Submission for OMB Review; Comment Request

February 14, 2007.

The Department of Treasury will submit the following public information collection requirement(s) to OMB for review and clearance under the Paperwork Reduction Act of 1995, Public Law 104-13, on or after the publication date of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before March 24, 2008 to be assured of consideration.

Bureau of Public Debt (BPD)

OMB Number: 1535-0137.

Type of Review: Revision.

Title: U.S. Treasury Auctions Submitter Agreement.

Forms: PD F 5441, PD F 5441-2, PD F 5441-1.

Description: Used to request information from entities wishing to participate in U.S. Treasury Securities Auctions via TAPPS Link.

Respondents: Businesses or other for-profit institutions

Estimated Total Burden Hours: 80 hours.

OMB Number: 1535-0111.

Type of Review: Extension.

Title: Authorization for Purchase and Request For Change U.S. Savings Bonds.

Forms: 2362, 2378, 2383.

Description: Used to authorize employers to allot funds from employee's pay for the purchase of Savings Bonds.

Respondents: Businesses or other for-profit institutions.

Estimated Total Burden Hours: 21,667 hours.

Clearance Officer: Brian Lallemont, (304) 480-8150, Bureau of the Public Debt, 200 Third Street, Parkersburg, West Virginia 26106.

OMB Reviewer: Alexander T. Hunt, (202) 395-7316, Office of Management and Budget, Room 10235, New Executive Office Building, Washington, DC 20503.

Robert Dahl,
Treasury PRA Clearance Officer.

[FR Doc. E8-3275 Filed 2-21-08; 8:45 am]

BILLING CODE 4810-39-P